ENVIRONMENTAL PROTECTION AGENCY

[FRL-6967-2]

Agency Information Collection Activities: Proposed Collection; Comment Request; National Survey on Environmental Management of Asthma

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): National Survey on Environmental Management of Asthma, EPA ICR Number 1996.01. Before submitting the ICR to OMB for review and approval, EPA is soliciting comments on specific aspects of the proposed information collection as described below.

DATES: Comments must be submitted on or before June 18, 2001.

ADDRESSES: To obtain a copy of the ICR without charge, contact: Dr. Susan Conrath, Indoor Environments Division, Office of Radiation and Indoor Air, U.S. Environmental Protection Agency, 1200 Pennsylvania Avenue, NW., (6609J), Washington, DC 20460.

FOR FURTHER INFORMATION CONTACT: Dr. Susan Conrath by phone at (202) 564-9389 or by e-mail at conrath.susan@epa.gov.

SUPPLEMENTARY INFORMATION: Affected entities: Entities potentially affected by this action are all individuals throughout the United States with publicly listed residential telephone numbers.

Title: National Survey on Environmental Management of Asthma (EPA ICR No. 1996.01).

Abstract: EPA is working to integrate the management of environmental factors with the medical treatment of asthma, particularly among children and low-income populations. To evaluate the effectiveness of its current outreach efforts, EPA proposes to collect data from individual U.S. households through a telephone survey. This survey will be used to gain information regarding the number of individuals with asthma who have taken steps to improve the quality of their indoor environment as part of their approach to managing the disease, as well as any barriers they may have encountered while attempting to do so. EPA will compare the data gained from this survey to the Agency's established Government Performance and Results Act of 1993 (GPRA) goal. Specifically, EPA's goal is that 2.5 million people with asthma, including one million children and 200,000 low-income adults, will have taken steps to reduce their exposure to indoor environmental asthma triggers by 2005.

EPA intends to conduct its survey twice during the period for which this ICR is in effect—once in the first year and again in the third. Each survey cycle will be conducted in the same manner, using the same survey instrument and protocols and relying on the same statistical assumptions regarding response and precision. EPA will conduct each survey cycle in two phases. The first phase is intended to identify households where either an adult asthmatic or child with asthma resides. Individuals who participate in the first phase of EPA's survey will be chosen at random from U.S. households with publicly listed telephone numbers. EPA expects that 10 percent of individuals who participate in its screening survey will have asthma or live in a household with someone who does. After responding to several screening questions, adult asthmatics and parents of children with asthma will be invited to participate in a longer, more in-depth telephone survey. EPA intends to over sample in communities known to have a high percentage of low-income households to ensure that the Agency is able to evaluate the effectiveness of its outreach efforts to this target population.

The National Survey on Environmental Management of Asthma is voluntary. EPA does not expect to receive confidential information from the individuals who voluntarily participate in the survey. However, if a respondent does consider the information submitted to be of a proprietary nature, EPA will assure its confidentiality based on the provisions of 40 CFR part 2, subpart B, “Confidentiality of Business Information.”

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates the annual public reporting and record keeping burden for this collection of information to range from between 1.5 minutes and 16 minutes per response, depending on whether or not the survey respondent has asthma or lives with someone who has asthma. Burden means the total time, effort, or financial resources expended by persons to generate, maintain, retain, or disclose or provide information to or for a Federal agency. This includes the time needed to: Review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

This survey effort is expected to cost approximately $0.75 per respondent living in a non-asthmatic household; $1.75 per respondent living in an asthmatic household, but participating only in the screening survey; and $8.00 per respondent participating in both the screening survey and the survey itself. Respondents will incur no capital, start-up costs, or operation and maintenance costs as a result of this survey.

Dated: April 8, 2001.
Mary T. Smith,
Director, Indoor Environments Division.

[FR Doc. 01-9485 Filed 4-16-01; 8:45 am]

BILLING CODE 6560-50-P